SECURITIES AND EXCHANGE COMMISSION

[Investment Company Act Release No. 34946; File No. 812-15323]

Vista Credit Strategic Lending Corp. et al.

June 20, 2023.

AGENCY: Securities and Exchange Commission (“Commission” or “SEC”).

ACTION: Notice.

Notice of application for an order under sections 17(d) and 57(i) of the Investment Company Act of 1940 (the “Act”) and rule 17d-1 under the Act to permit certain joint transactions otherwise prohibited by sections 17(d) and 57(a)(4) of the Act and rule 17d-1 under the Act.

Summary of Application: Applicants request an order to permit certain business development companies and closed-end management investment companies to co-invest in portfolio companies with each other and with certain affiliated investment entities.

Applicants: Vista Credit Strategic Lending Corp., Vista Credit BDC Management, L.P., Vista Credit Partners, L.P., Vista Credit CLO Management LLC, Vista Credit Partners Fund III, L.P., Vista Credit Opportunities Fund II, L.P., Vista Opportunistic Credit Fund I, L.P., Vista Opportunistic Credit Fund II, L.P., Vista Opportunistic Credit Fund II-A, L.P., Vista Opportunistic Credit Fund II (2), L.P., Vista Opportunistic Credit Fund II-A (2), L.P., Vista Opportunistic Credit Fund III, L.P., Vista Opportunistic Credit Fund III, L.P., Vista Opportunistic Credit Fund IV, L.P., Vista Capital Solutions Fund L.P., Vista Capital Solutions Fund-A, L.P., VCPF III Co-Invest 1-A, L.P., VCPF III Co-Invest 2-A, L.P., VCPF III Co-Invest 4-A, L.P., VCPF III Co-Invest 5-A, L.P., Vista Co-Invest Fund 2022-1, L.P., Vista Co-Invest Fund 2022-2, L.P., Vista Co-Invest Fund 2022-3, L.P., VCP CLO III, Ltd., Vista Platform Fund I, L.P., Vista Platform Partners, L.P.

Filing Dates: The application was filed on April 15, 2022, and amended on November 10, 2022 and April 21, 2023.

Hearing or Notification of Hearing: An order granting the requested relief will be issued unless the Commission orders a hearing. Interested persons may request a hearing on any application by emailing the SEC's Secretary at Secretarys-Office@sec.gov and serving the Applicants with a copy of the request by email, if an email address is listed for the relevant Applicant below, or personally or by mail, if a physical address is listed for the relevant Applicant below. Hearing requests should be received by the Commission by 5:30 p.m. on July 17, 2023, and should be accompanied by proof of service on Applicants, in the form of an affidavit or, for lawyers, a certificate of service. Pursuant to rule 0-5 under the Act, hearing requests should state the nature of the writer's interest, any facts bearing upon the desirability of a hearing on the matter, the reason for the request, and the issues contested. Persons who wish to be notified of a hearing may request notification by emailing the SEC's Secretary at Secretarys-Office@sec.gov.

ADDRESSES: The Commission: Secretarys-Office@sec.gov. Applicants: Norman Champ, P.C., at norm.champ@kirkland.com.

FOR FURTHER INFORMATION CONTACT: Jean E. Minarick, Senior Counsel, or Kyle R. Ahlgren, Branch Chief, at (202) 551-6825 (Division of Investment Management, Chief Counsel's Office).

SUPPLEMENTARY INFORMATION: For Applicants' representations, legal analysis, and conditions, please refer to Applicants' second amended and restated application, dated April 21, 2023, which may be obtained via the Commission's website by searching for the file number at the top of this document, or for an Applicant, using the Company name search field on the SEC's EDGAR system. The SEC's EDGAR system may be searched at http://www.sec.gov/edgar/searchedgar/legacy/companysearch.html. You may also call the SEC's Public Reference Room at (202) 551-8090.

For the Commission, by the Division of Investment Management, under delegated authority.
J. Matthew DeLesDernier,
Deputy Secretary.

[FR Doc. 2023-13442 Filed 6-23-23; 8:45 am]

BILLING CODE 8011-01-P